DEPARTMENT OF DEFENSE

Department of the Army; Corps of Engineers

Notice of Intent To Prepare an Environmental Impact Statement for the Missouri River Recovery Management Plan, Missouri River, United States

AGENCY: Department of the Army, U.S. Army Corps of Engineers, DoD.

ACTION: Notice of intent.

SUMMARY: Pursuant to the National Environmental Policy Act of 1969 (NEPA), as amended, the U.S. Army Corps of Engineers (USACE), Kansas City and Omaha Districts, intend to prepare the Missouri River Recovery Management Plan (Plan) with integrated Environmental Impact Statement (EIS).

FOR FURTHER INFORMATION CONTACT: For further information and/or questions about the proposed Plan, please contact Ms. Lisa Rabbe, Project Manager, by telephone: (816) 389-3837, by mail: 601 E. 12th Street, Kansas City, MO 64106, or by email: Lisa.A.Rabbe@usace.army.mil, or Mr. Randy Sellers, Project Manager, by telephone: (402) 995-2689, by mail: 1616 Capitol Avenue, Omaha, NE 68102-4901, or by email: Randy.P.Sellers@usace.army.milmailto:Gwyn.M.Jarrett@usace.army.mil. For inquiries from the media, please contact the USACE Kansas City District Public Affairs Officer (PAO), Mr. David Kolarik by telephone: (816) 389-3486, by mail: 601 E. 12th Street, Kansas City, MO 64106, or by email: David.S.Kolarik@usace.army.mil.

SUPPLEMENTARY INFORMATION: Through preparation of the Plan and EIS, USACE will develop a range of alternatives for the purposes of Missouri River recovery and mitigation. This federal action includes activities on the Missouri River and is designed to assist in the recovery of Missouri River species protected under the Federal Endangered Species Act (ESA). Mitigation actions address USACE's requirements pursuant to the 1958 Fish and Wildlife Coordination Act (Pub. L. 85-624), section 601(a) of the Water Resources Development Act (WRDA) of 1986, and section 334(a) and (b) of the WRDA of 1999, and Section 3176 of the WRDA 2007.

Section 3176 of WRDA 2007 expanded the USACE's authority to include recovery and mitigation activities on the Missouri River in the upper basin states of Montana, Nebraska, North Dakota, and South Dakota. The combination of recovery and mitigation activities is commonly referred to as the Missouri River Recovery Program.

In accordance with 40 CFR 1502.4 (c), this EIS will evaluate all proposals or parts of proposals similar in nature such that, in effect, they represent a single course of action. The Missouri River Recovery Management Plan EIS will assess and, where appropriate, supplement or update prior analysis made pursuant to the requirements listed above. The EIS will assess the cumulative effects and alternatives to accomplish the purposes of the ESA, the 1958 Fish and Wildlife Coordination Act (Pub. L. 85-624), section 601(a) of the Water Resources Development Act (WRDA) of 1986, and section 334(a) and (b) of the WRDA of 1999, and Section 3176 of the WRDA 2007. The federal actions which implement those authorities have been combined into one program and are being assessed together to effectively and efficiently carry out the multiple goals associated with the authorizations. Additionally to be addressed in this EIS, the USACE has received a proposal from the Missouri River Recovery Implementation Committee, recommending the agency perform an effects analysis and adaptive management of potential management actions on ESA listed species. Addressing this proposal will result in an analysis of management alternatives and adaptive management actions to benefit these species, and thus requires supporting environmental effects analyses which will be included in this Environmental Impact Statement.

The Missouri River Recovery Management Plan with integrated EIS will be narrower than the scope and purpose of the study from section 5018(a) of the Water Resources Development Act of 2007 (Missouri River Ecosystem Restoration Plan). That study included the additional purpose of ecosystem restoration and was inclusive of the entire Missouri River watershed, including tributaries, while this plan and EIS will focus exclusively on the purposes of recovery and mitigation and be limited primarily to the areas and objectives prescribed in the authorities listed above.

Scoping. Multiple phases of public, agency and Tribal government scoping meetings will be conducted throughout the Missouri River basin. Additional scoping phases are planned in order to address a preliminary range of alternatives and eventually to publish and solicit input on a draft EIS. Dates for these scoping phases have not yet been determined. General concerns, issues and needs related to the plan will be obtained throughout all scoping phases. Further information regarding when and where scoping meetings will be held as well as how written comments and suggestions concerning the EIS may be submitted will be found online at http://www.moriverrecovery.org when that information is available.

Dated: January 10, 2013.
Randy Sellers,
Project Manager.

[FR Doc. 2013-00993 Filed 1-17-13; 8:45 am]

BILLING CODE 3720-58-P